NATIONAL SCIENCE FOUNDATION

Advisory Committee for Geoscience, Notice of Meeting

In accordance with the Federal Advisory Committee Act (Pub. L. 92-463, as amended), the National Science Foundation announces the following meeting:

Name: Advisory Committee for Geosciences (1755).

Dates & Times: 8:30-5:30 p.m. Wednesday, May 11, 2005. 8:30 a.m.-4 p.m. Thursday, May 12, 2005.

Place: National Science Foundation, 4201 Wilson Boulevard, Rm 375, Arlington, VA 22230.

Type of Meeting: Open.

Contact Person: Dr. Thomas Spence, Directorate for Geosciences, National Science Foundation, Suite 705, 4201 Wilson Boulevard, Arlington, Virginia 22230, phone 703-292-8500.

Minutes: May be obtained from the contact person listed above.

Purpose of Meeting: To provide advice, recommendations, and oversight concerning support for research, education, and human resources development in the geosciences.

Agenda:

Day 1: Directorate and Division Activity Reports; Division Subcommittee Meetings.

Day 2: Future Directorate Initiatives.

Dated: April 14, 2005.
Susanne Bolton,
Committee Management Officer.

[FR Doc. 05-7797 Filed 4-18-05; 8:45 am]

BILLING CODE 7555-01-M